DEPARTMENT OF HEALTH AND HUMAN SERVICES

National Institutes of Health

National Cancer Institute; Amended Notice of Meeting

Notice is hereby given of a change in the meeting of the National Cancer Institute Clinical Trials and Translational Research Advisory Committee, July 16, 2014, 09:00 a.m. to July 16, 2014, 04:00 p.m., National Institutes of Health, Building 31, 31 Center Drive, Bethesda, MD, 20892 which was published in the Federal Register on April 18, 2014, 79FR21938.

The meeting is being amended to change the start and end times from 11:00 a.m. to 1:00 p.m. and the mode of the meeting is being changed from face to face to a webinar. Pertinent information related to the meeting is as follows:

Date: Wednesday, July 16, 2014.

Time: 11:00 a.m.-1:00 p.m., ET.

Meeting Number: 730 782 390.

Meeting Password: ctac.

Join the online meeting (webinar/video conference).

Go to: https://cbiit.webex.com/cbiit/j.php?MTID=m258581e041454e26f5dbaaa63e54f2. Enter your name and email address. If required, enter the meeting password: ctac, then Click “Join”. Follow the instructions that appear on your screen. If/when prompted to run a temporary application, click “Run”. This may be a small window that pops up and allows you to click “Run”. It may also be a small blue link to “Run a Temporary Application” on the WebEx screen. Connect to WebEx audio (phone line).

Once you have joined the meeting, an Audio Conference window will appear with prompts to enter your number. Important: Provide your number (telephone number of where you are) when you join the meeting to receive a call back. Click “Call Me” and the session will call this number. Answer the phone when WebEx calls you, and press (1) to join the meeting (as prompted).

Do NOT put your phone on HOLD. To MUTE your phone; either push: The Mute button on your phone or click “Mute Me” in the menu at the top of the screen.

If you disconnect and later reconnect, follow the same procedures above to (1) Join the online meeting and (2) Connect to WebEx audio.

If you are unable to be at a computer for this session or do not have internet access, you may call the following number: 1-240-276-6338 for Audio access ONLY. Please be sure to identify yourself if you are a CTAC Board Member.

Dated: June 2, 2014.
Melanie J. Gray,
Program Analyst, Office of Federal Advisory Committee Policy.

[FR Doc. 2014-13100 Filed 6-5-14; 8:45 am]

BILLING CODE 4140-01-P